DEPARTMENT OF HEALTH AND HUMAN SERVICES

Centers for Medicare & Medicaid Services

[Document Identifier: CMS-10091, CMS-1728, CMS-10028 A, B and C, and CMS-10099]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Accepting New Patients Indicator UPIN (Unique Physician Identification Number) Participating Physicians Directory; Use: CMS is expanding the Participating Physician Directory to provide additional information about physicians who participate in Medicare. The new data element “accepting new Medicare patients” will provide beneficiaries and other users with much needed information about the physicians who participate in the Medicare program. It will also provide a service to physicians who are either seeking new Medicare patients or who wish to reduce the burden of responding to callers when they are no longer accepting new Medicare patients. Form Number: CMS-10091 (OMB#: 0938-0905); Frequency: Reporting: Daily, Weekly and Yearly; Affected Public: Business or other for-profit and Not-for-profit institutions; Number of Respondents: 109.800; Total Annual Responses: 10,980; Total Annual Hours: 915.

2. Type of Information Collection Request: Extension of a currently approved collection; Title of Information Collection: Home Health Agency Cost Report; Use: Providers of services participating in the Medicare program are required under sections 1815(a) and 1861(v)(1)(A) of the Social Security Act, to submit annual information to achieve settlement of costs for health care services rendered to Medicare beneficiaries. The CMS-1728-94 cost report is needed to determine the amount of reimbursable cost, based upon the cost limits, that is due these providers furnishing medical services to Medicare beneficiaries. Form Number: CMS-1728-94 (OMB#: 0938-0022); Frequency: Reporting: Yearly; Affected Public: Business or other for-profit and Not-for-profit institutions; Number of Respondents: 5069; Total Annual Responses: 5069; Total Annual Hours: 892,144.

3. Type of Information Collection Request: Extension of a currently approved collection; Title of Information Collection: State Health Insurance Assistance Program (SHIP) Client Contact Form, Pubic and Media Activity Form, and Resource Report Form; Use: The information collected is used to fulfill the reporting requirements described in Section 4360(f) of OBRA 1990. Also, the data will be accumulated and analyzed to measure State Health Insurance Assistance Program (SHIP) performance in order to determine whether and to what extent the SHIPs have met the goals of improved CMS customer service to beneficiaries and better understanding by beneficiaries of their health insurance options. Further, the information will be used in the administration of the grants, to measure performance and appropriate use of the funds by the State grantees, to identify gaps in services and technical support needed by SHIPs, and to identify and share best practices. Form Number: CMS-10028-A, B and C (OMB#: 0938-0850); Frequency: Reporting: Quarterly and Semi-annually; Affected Public: State, Local, or Tribal Governments; Number of Respondents: 12,000; Total Annual Responses: 1,056,000; Total Annual Hours: 87,965.

4. Type of Information Collection Request: Extension of a currently approved information collection; Title of Information Collection: Review of National Coverage Determinations and Local Coverage Determinations and Supporting Regulations in 42 CFR 426.400 and 42 CFR 426.500; Use: Section 522 of the Benefits Improvement and Protection Act (BIPA) of 2000 requires the implementation of a process for the appeal of National Coverage Determinations (NCDs) and Local Coverage Determinations (LCDs). Sections 426.400 and 426.500, state that an aggrieved party may initiate a review of an LCD or NCD, respectively, by filing a written complaint. These sections also identify the information required in the complaint to qualify as an aggrieved party as defined in § 426.110, as well as the process and information needed for an aggrieved party to withdraw a complaint. The required documentation includes a copy of the written authorization to represent the beneficiary, if the beneficiary has a representative, and a copy of a written statement from the treating physician that the beneficiary needs a service that is the subject of the LCD. Form Number: CMS-10099 (OMB#: 0938-0911); Frequency: Reporting—On occasion; Affected Public: Individuals or Households; Number of Respondents: 1,040; Total Annual Responses: 1,040; Total Annual Hours: 4,160.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: March 22, 2007.
Michelle Shortt,
Director, Regulations Development Group, Office of Strategic Operations and Regulatory Affairs.

[FR Doc. E7-5754 Filed 3-29-07; 8:45 am]

BILLING CODE 4120-01-P